DEPARTMENT OF AGRICULTURE

Forest Service

Wrangell-Petersburg Resource Advisory Committee

AGENCY: Forest Service, USDA.

ACTION: Notice of meeting.

SUMMARY: The Wrangell-Petersburg Resource Advisory Committee (RAC) will meet from 6 p.m. until 8 p.m. on Thursday, July 15, 2004, in Petersburg, Alaska. The purpose of this meeting is to discuss and potentially recommend for funding the publication and distribution of a RAC newsletter and/or the commitment of RAC funds to support miscellaneous administrative functions.

DATES: The meeting will be held commencing at 6 p.m. on Thursday, July 15, 2004. It is anticipated that the meeting will adjourn by 8 p.m.

ADDRESSES: The meeting will be held at the Petersburg Ranger District office conference room, Federal Building, 12 North Nordic Drive, Petersburg, Alaska. Committee members from outside Petersburg will participate in the meeting via teleconference.

FOR FURTHER INFORMATION CONTACT: Chip Weber, Wrangell District Ranger, P.O. Box 51, Wrangell, AK 99929, phone (907) 874-2323, e-mail cweber@fs.fed.us or Patty Grantham, Petersburg District Ranger, P.O. Box 1328, Petersburg, AK 99833, phone (907) 772-3871, e-mail pagrantham@fs.fed.us. Contact either of these individuals for teleconference information. For further information on RAC history, operations, and the application process, a Web site is available at http://www.fs.fed.us/r10/ro/payments.

SUPPLEMENTARY INFORMATION: This meeting will focus on the discussion and potential recommendation for funding of the costs of the publication and distribution of a RAC newsletter and/or the commitment of RAC funds to support miscellaneous administrative functions. The meeting is open to the public. Teleconference capability is available (committee members from outside of Petersburg will participate via teleconference).

Dated: June 23, 2004.
Forrest Cole,
Forest Supervisor.

[FR Doc. 04-14779 Filed 6-29-04; 8:45 am]

BILLING CODE 3410-11-M